DEPARTMENT OF COMMERCE

International Trade Administration

[A-570-929]

Small Diameter Graphite Electrodes from the People's Republic of China: Final Results of the First Administrative Review of the Antidumping Duty Order and Final Rescission of the Administrative Review, in Part

AGENCY: Import Administration, International Trade Administration, Department of Commerce.

SUMMARY: On March 7, 2011, the Department of Commerce (“Department”) published the preliminary results of the first administrative review of the antidumping duty order on small diameter graphite electrodes (“SDGE”) from the People's Republic of China (“PRC”), covering the period August 21, 2008, through January 31, 2010. See Small Diameter Graphite Electrodes from the People's Republic of China: Preliminary Results of the First Administrative Review of the Antidumping Duty Order; Partial Rescission of Administrative Review; and Intent to Rescind Administrative Review, in Part, 75 FR 12325 (March 7, 2011) (“Preliminary Results”).

We invited interested parties to comment on our Preliminary Results. Based on our analysis of the comments received, we made certain changes to our margin calculations for the mandatory respondents. The final dumping margins for this review are listed in the “Final Results of the Review” section below.

DATES: Effective Date: September 13, 2011.

FOR FURTHER INFORMATION CONTACT: Lindsey Novom or Frances Veith, AD/CVD Operations, Office 8, Import Administration, International Trade Administration, U.S. Department of Commerce, 14th Street and Constitution Avenue, NW, Washington DC, 20230; telephone: (202) 482-5256 or (202) 482-4295, respectively.

SUPPLEMENTARY INFORMATION:

Background

On March 7, 2011, the Department published the Preliminary Results of the first administrative review of the antidumping duty order on SDGE from the PRC. On March 28, 2011, the following parties each submitted additional surrogate value (“SV”) information: SGL Carbon LLC and Superior Graphite Co. (“Petitioners”); Fushun Jinly Petrochemical Carbon Co., Ltd. (“Fushun Jinly”); and Beijing Fangda Carbon Tech Co., Ltd. (“Beijing Fangda”), Chengdu Rongguang Carbon Co., Ltd. (“Rongguang”), Fangda Carbon New Material Co., Ltd. (“Fangda Carbon”), Fushun Carbon Co., Ltd. (“`Fushun Carbon”), and Hefei Carbon Co., Ltd. (“Hefei”) (collectively “the Fangda Group”). On March 28, 2011, Petitioners submitted comments on an apparent discrepancy between the volume of subject merchandise sold and exported to the United States during the period of review (“POR”) as (1) reported in the U.S. sales listings of the mandatory respondents (i.e., Fushun Jinly and the Fangda Group) and (2) reported in the U.S. Customs and Border Protection (“CBP”) data on the administrative record relating to entries of subject merchandise during the period of review. On April 5, 2011, the Department requested new factual information from the mandatory respondents regarding their customers' import processes, including a description of any documents generated by the customer, the Fangda Group, and/or Fushun Jinly related to the importation process. On April 11, 2011, the mandatory respondents submitted new factual information as requested by the Department. On April 25, 2011, Petitioners provided comments on the mandatory respondents' April 11, 2011 new factual information submission. On April 28, 2011, the Department placed CBP data on the record. Petitioners submitted comments on the CBP data on May 5, 2011, and the mandatory respondents rebutted Petitioners' comments regarding CBP data on May 16, 2011. On May 23, 2011, Petitioners submitted a case brief and the mandatory respondents submitted a joint case brief. On May 31, 2011, the mandatory respondents submitted a joint rebuttal brief and Petitioners submitted a rebuttal brief; however, on June 2, 2011, the Department rejected Petitioners' rebuttal brief because it contained comments on arguments not raised in respondents' case brief. Petitioners submitted their redacted rebuttal brief on June 6, 2011. We did not receive briefs or rebuttal briefs from any other interested party to this review. On June 21, 2011, the Department published a notice in the Federal Register extending the time limit for the final results of review by the full 60 days allowed under section 751(a)(3)(A) of the Tariff Act of 1930, as amended (“the Act”), to September 6, 2011.¹ On June 29, 2011, the Department released a Memorandum to the File, titled “Industry-Specific Surrogate Wage Rates and Surrogate Financial Ratio Adjustments,” dated June 29, 2011 (“Wage Rate Memorandum”), for use in these final results. We did not receive comments from interested parties pertaining to the Wage Rate Memorandum.

¹ See Small Diameter Graphite Electrodes From the People's Republic of China: Extension of Time Limit for the Final Results of the First Administrative Review of the Antidumping Duty Order, 76 FR 36092 (June 21, 2011).

Analysis of Comments Received

All issues raised in the case and rebuttal briefs filed by parties in this review are addressed in the Memorandum from Christian Marsh, Deputy Assistant Secretary for Antidumping and Countervailing Duty Operations, to Ronald K. Lorentzen, Deputy Assistant Secretary for Import Administration, titled “Small Diameter Graphite Electrodes from the People's Republic of China: Issues and Decision Memorandum for the Final Results of the 2008-2010 Administrative Review,” dated concurrently with this notice (“Issues and Decision Memorandum”), which is hereby adopted by this notice. A list of the issues that parties raised and to which we responded in the Issues and Decision Memorandum follows as an appendix to this notice. The Issues and Decision Memorandum is a public document and is on file in the Central Records Unit (“CRU”), Main Commerce Building, Room 7046, and is also accessible on the web at http://ia.ita.doc.gov/frn. The paper copy and electronic version of the Issues and Decision Memorandum are identical in content.

Period of Review

The POR is August 21, 2008, through January 31, 2010.

Scope of the Order

The merchandise covered by this order includes all small diameter graphite electrodes of any length, whether or not finished, of a kind used in furnaces, with a nominal or actual diameter of 400 millimeters (16 inches) or less, and whether or not attached to a graphite pin joining system or any other type of joining system or hardware. The merchandise covered by this order also includes graphite pin joining systems for small diameter graphite electrodes, of any length, whether or not finished, of a kind used in furnaces, and whether or not the graphite pin joining system is attached to, sold with, or sold separately from, the small diameter graphite electrode. Small diameter graphite electrodes and graphite pin joining systems for small diameter graphite electrodes are most commonly used in primary melting, ladle metallurgy, and specialty furnace applications in industries including foundries, smelters, and steel refining operations. Small diameter graphite electrodes and graphite pin joining systems for small diameter graphite electrodes that are subject to this order are currently classified under the Harmonized Tariff Schedule of the United States (“HTSUS”) subheading 8545.11.0000. The HTSUS number is provided for convenience and customs purposes, but the written description of the scope is dispositive.

Changes Since the Preliminary Results

Based on an analysis of the comments received from interested parties, the Department has made certain changes to the margin calculations. For the final results, the Department has made the following changes:

Changes to Fushun Jinly's Margin Calculation

• We revised Fushun Jinly's toller's electricity consumption because, in the Preliminary Results, we inadvertently overstated this toller's electricity consumption when we applied partial facts available to the toller's FOP data.²

² See Issues and Decision Memorandum at Comment 13. See also Memorandum to the File, titled “2008-2010 Administrative Review of the Antidumping Duty Order on Small Diameter Electrodes from the People's Republic of China: Analysis of the Final Results Margin Calculation for Fushun Jinly Petrochemical Carbon Co., Ltd.,” dated concurrently with this notice (“Fushun Jinly's Final Analysis Memorandum”).

• We have revised Fushun Jinly's by-product offset in the final results and will use the production quantity from the verification documentation as the basis for Fushun Jinly's by-product offsets.³

³ See Issues and Decision Memorandum at Comment 12. See also Fushun Jinly's Final Analysis Memorandum. See also Fushun Jinly's Verification Exhibit 22.

• We are excluding certain sales reported in Fushun Jinly's U.S. shipment database where we have evidence that they did not enter the United States for consumption.⁴

⁴ See Issues and Decision Memorandum at Comment 1. See also Fushun Jinly's Final Analysis Memorandum.

• In accordance with sections 776(a)(2)(C) and 776(b) of the Act, as partial adverse facts available, we have adjusted the reported graphitizing FOPs by increasing the reported consumption of inputs used in the graphitization stage to reflect the largest difference between the weight of semi-finished products before graphitizing and the weight of semi-finished products after graphitizing based on Fushun Jinly's Verification Exhibit 19.⁵

⁵ See Issues and Decision Memorandum at Comment 18. See also Fushun Jinly's Final Analysis Memorandum.

Changes to the Fangda Group's Margin Calculation

• We are excluding certain sales reported in the Fangda Group's U.S. shipment database where we have evidence that they did not enter the United States for consumption during the POR.⁶

⁶ See Issues and Decision Memorandum at Comment 1. See also Memorandum to the File, titled “2008-2010 Administrative Review of the Antidumping Duty Order on Small Diameter Electrodes from the People's Republic of China: Analysis of the Final Results Margin Calculation for the Fangda Group,” dated concurrently with this notice.

Changes to Surrogate Values

• We have revised the surrogate value source used to value respondents' natural gas. The revised surrogate value is derived from the Indian gas prices as published by the Indian Gas Utility Gail.⁷

⁷ See Issues and Decision Memorandum at Comment 10. See also Memorandum to the File, titled “First Administrative Review of the Antidumping Duty Order on Small Diameter Graphite Electrodes from the People's Republic of China: Selection of Factor Values,” (“Final Factors Memorandum”) dated concurrently with this notice.

• In light of Dorbest Ltd. v. United States, 604 F.3d 1363 (Fed. Cir. 2010) and consistent with Antidumping Methodologies in Proceedings Involving Non-Market Economies: Valuing the Factor of Production: Labor, 76 FR 36092 (June 21, 2011), we have made revisions to the surrogate labor rate and the surrogate manufacturing overhead (“MOH”) ratio for the final results of this administrative review. For these final results, the surrogate labor rate has changed from US$1.47/hour to 75.41 Indian Rupees per hour and the surrogate MOH ratio changed from 25.94 percent to 23.87 percent. See Wage Rate Memorandum; see also Final Factors Memorandum.

Final Rescission, in Part, of the Administrative Review

In the Preliminary Results, the Department stated its intent to rescind the review with respect to UK Carbon & Graphite (“UKCG”) because the Department preliminarily determined that UKCG had no shipments of subject merchandise to the United States during the POR.⁸ Interested parties had an opportunity to submit comments on the Department's intent to rescind this review with respect to UKCG. The Department did not receive any comments from interested parties with respect to rescinding the review of UKCG. Thus, in accordance with 19 CFR 351.213(d)(3), and consistent with our practice, we are rescinding this review with respect to UKCG.

⁸ See Preliminary Results, 75 FR at 12328-29.

Separate Rates Determination

In the Preliminary Results, we determined that Fushun Jinly, the Fangda Group, and Xinghe County Muzi Carbon Co., Ltd. (“Muzi Carbon”) met the criteria for separate rate status.⁹ We have not received any information since issuance of the Preliminary Results that provides a basis for reconsidering this preliminary determination. Therefore, the Department continues to find that Fushun Jinly, the Fangda Group, and Muzi Carbon meet the criteria for a separate rate.

⁹ See Preliminary Results, 75 FR at 12330-31.

Margin for Separate Rate Company

Consistent with the Department's practice, as the separate rate, we have established a margin for Muzi Carbon based on the weighted-average of the rates we calculated for the mandatory respondents, the Fangda Group and Fushun Jinly, excluding, where appropriate, any rates that were zero, de minimis, or based entirely on AFA.¹⁰

¹⁰ See, e.g., Preliminary Determination of Sales at Less Than Fair Value and Partial Affirmative Determination of Critical Circumstances: Certain Polyester Staple Fiber from the People's Republic of China, 71 FR 77373, 77377 (December 26, 2006), unchanged in Final Determination of Sales at Less Than Fair Value and Partial Affirmative Determination of Critical Circumstances: Certain Polyester Staple Fiber from the People's Republic of China, 72 FR 19690 (April 19, 2007).

The PRC-Wide Entity

As explained in the Preliminary Results, Shijiazhuang Huanan Carbon Factory (“Huanan Carbon”), Sinosteel Jilin Carbon Co., Ltd./Sinosteel Jilin Carbon Import & Export Co., Ltd. (“Sinosteel Jilin”), Jilin Carbon Graphite Material Co., Ltd. (“Jilin Carbon”), and Jilin Carbon Import and Export Company (“Jilin Carbon I&E”) did not apply for separate-rate status. As such, they have not demonstrated their eligibility for a rate separate status in this administrative review.¹¹ Additionally, none of these companies notified the Department that they had no shipments of subject merchandise during the POR. In the Preliminary Results we determined that, because there were exports of merchandise under review from PRC exporters that did not demonstrate their eligibility for separate rate status, they should be treated as part of the PRC-wide entity. We have not received any information since issuance of the Preliminary Results that provides a basis for reconsidering this preliminary determination. Therefore, the Department continues to find that they should be treated as part of the PRC-wide entity and subject to the PRC-wide entity rate.

¹¹ See Preliminary Results, 75 FR at 12331-32.

In accordance with section 776(a) and (b) of the Act and as explained in more detail in the Preliminary Results, we determined that the PRC-wide entity's rate should be based on total AFA.¹² No party has commented on the use of a total AFA rate for the PRC-wide entity. Accordingly, the Department continues to assign an AFA rate to the PRC-wide entity. As an AFA rate, the Department continues to use the highest percent margin alleged in the Petition,¹³ 159.64 percent.¹⁴ As explained in the Preliminary Results, the Department considers that rate corroborated pursuant to section 776(c) of the Act based upon our pre-initiation analysis of the adequacy and accuracy of the information in the Petition.¹⁵ No party has commented on the Department's corroboration of the selected total AFA rate for the PRC-wide entity.

¹² See Preliminary Results, 75 FR at 12331-33.

¹³ See Petition for the Imposition of Antidumping Duties Against Small Diameter Graphite Electrodes from the People's Republic of China, Exhibit General 3, Volume I (January 17, 2008) (“Petition”).

¹⁴ See Final Determination of Sales at Less Than Fair Value and Affirmative Determination of Critical Circumstances: Small Diameter Graphite Electrodes from the People's Republic of China, 74 FR 2049, 2054 (January 14, 2009).

¹⁵ See Preliminary Results, 75 FR at 12332-33.

Final Results of the Review

The Department has determined that the following margins exist for the period August 21, 2008, through January 31, 2010:

SDGE from the PRC: Exporters | SDGE from the PRC: Percent margin
Beijing Fangda Carbon Tech Co., Ltd., Fangda Carbon New Material Co., Ltd., Fushun Carbon Co., Ltd., Hefei Carbon Co., Ltd., (collectively, The Fangda Group) | 2.75
Fushun Jinly Petrochemical Carbon Co., Ltd | 56.63
Xinghe Country Muzi Carbon Co., Ltd | 23.47
PRC-wide Entity* | 159.64
* The PRC-wide Entity includes, inter alia, Huanan Carbon, Sinosteel Jilin, Jilin Carbon, and Jilin Carbon I&E.

Assessment Rates

Pursuant to section 751(a)(2)(A) of the Act and 19 CFR 351.212(b), the Department will determine, and CBP shall assess, antidumping duties on all appropriate entries of subject merchandise in accordance with the final results of this review. The Department intends to issue assessment instructions to CBP 15 days after the publication date of the final results of these reviews. For assessment purposes, we calculated exporter/importer- (or customer-) specific assessment rates for merchandise subject to this review consistent with 19 CFR 351.212(b)(1). Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer- (or customer-) specific assessment rate is de minimis (i.e., less than 0.50 percent), the Department will instruct CBP to assess that importer's (or customer's) entries of subject merchandise without regard to antidumping duties in accordance with 19 CFR 351.106(c)(2). We intend to instruct CBP to liquidate entries containing subject merchandise exported by the PRC-wide entity at the PRC-wide rate we determine in the final results of this review.

Cash-Deposit Requirements

The following cash-deposit requirements will be effective upon publication of the final results of this administrative review for all shipments of the subject merchandise from the PRC entered, or withdrawn from warehouse, for consumption on or after the publication date, as provided by section 751(a)(2)(C) of the Act: (1) For the Fangda Group, Fushun Jinly, and Muzi Carbon, the cash deposit rate will be the margins listed above; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 159.64 percent; and (4) for all non-PRC exporters of subject merchandise which have not received their own rate, the cash deposit rate will be the rate applicable to the PRC exporters that supplied that non-PRC exporter. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Administrative Protective Order

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We intend to disclose the calculations performed within five days of the date of publication of this notice to parties in this proceeding in accordance with 19 CFR 351.224(b).

We are issuing and publishing the final results and notice in accordance with sections 751(a)(1) and 777(i)(1) of the Act.

Dated: September 6, 2011.
Ronald K. Lorentzen,
Deputy Assistant Secretary for Import Administration.

Appendix

Comment 1: Whether To Apply Total Adverse Facts Available To the Mandatory Respondents

Comment 2: Whether the Fangda Group and Fushun Jinly Properly Reported Their Universe of U.S. Sales

Comment 3: Whether the Respondents Reported All of Their U.S. Selling Expenses

Comment 4: Whether the Fangda Group Reported Accurate Energy & Labor Consumption

Comment 5: Whether to Impute Reporting Failures of Fushun Carbon to the Other Fangda Group Producers

Comment 6: Whether the Fangda Group Reported Accurate Supplier Distances

Comment 7: Whether the Fangda Group Reported Accurate Market Economy Purchases

Comment 8: The Fangda Group's By-Products

Comment 9: Whether the Fangda Group Reported Complete and Reliable FOPs for Itself and Its Tollers

Comment 10: Whether the Fangda Group Reported Accurate Sales Prices

Comment 11: Surrogate Value for Natural Gas

Comment 12: Whether Fushun Jinly Failed to Submit CONNUM-Specific Factor Data

Comment 13: Whether Fushun Jinly's By-Product Offsets Should Be Rejected

Comment 14: Whether Fushun Jinly Reported Accurate Electricity Consumption Factors and Whether the Department Incorrectly Valued Fushun Jinly's Coal Consumption

Comment 15: Whether Fushun Jinly's Reported Market Economy Purchase Prices for Needle Coke Are Understated

Comment 16: Whether Fushun Jinly Reported All Factor Data

Comment 17: Whether to Reject Fushun Jinly's Tollers' Data Because It Included Non-Subject Merchandise in the FOP Allocations

Comment 18: Whether Fushun Jinly's Graphitization Toller's FOP Data are Understated, Incomplete and Unreliable

Comment 19: Whether Fushun Jinly's Accounting Records Can Be Reconciled to the Toller's Records With Respect to Quantities

Comment 20: Whether Fushun Jinly's Toller #1's Data Are Incomplete

Comment 21: Whether Fushun Jinly's Toller #2's Data Are Incomplete

Comment 22: Fushun Jinly's Toller #2's Electricity Consumption

Comment 23: Whether Fushun Jinly's Toller's Data Are Otherwise Understated

Comment 24: Offsetting Negative Margins

[FR Doc. 2011-23357 Filed 9-12-11; 8:45 am]

BILLING CODE 3510-DS-P